ENVIRONMENTAL PROTECTION AGENCY

[FRL-6865-2]

Clean Water Act Section 303(d): Availability of Total Maximum Daily Loads (TMDLs) and Final Determination That TMDLs Are Not Needed

AGENCY: Environmental Protection Agency (EPA).

ACTION: Notice of availability and final determination.

SUMMARY: This notice announces the availability for comment of the administrative record file for six TMDLs prepared by EPA Region 6 for waters listed in Louisiana's Mermentau and Vermilion/Teche river basins, under section 303(d) of the Clean Water Act (CWA). The above TMDLs were completed in response to a Court Order dated October 1, 1999, in the lawsuit Sierra Club, et al. v. Clifford et al., No. 96-0527, (E.D. La. Oct. 1, 1999). Under this court order, EPA is required to establish TMDLs when needed for waters on the Louisiana 1998 section 303(d) list by December 31, 2007. This notice also announces the Agency's final determination that TMDLs are not needed for forty-six waterbody/pollutant combinations in the Mermentau and Vermilion/Teche river basins and two waterbody/pollutant combinations in the Pearl River Basin because the data show that the waterbodies are meeting Louisiana's Water Quality Standards for the pollutants involved.

DATES: Comments on the six completed TMDLs must be submitted to EPA on or before October 6, 2000.

ADDRESSES: Comments on the six TMDLs should be sent to Ellen Caldwell, Environmental Protection Specialist, Water Quality Protection Division, U.S. Environmental Protection Agency Region 6, 1445 Ross Ave., Dallas, TX 75202-2733. For further information, contact Ellen Caldwell at (214) 665-7513. Copies of the TMDLs and their respective calculations may be viewed at www.epa.gov/region6/water/tmdl.htm, or obtained by writing or calling Ms. Caldwell at the above address. The administrative record file for these TMDLs is available for public inspection at the above address as well. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (Plaintiffs), filed a lawsuit in Federal Court against the United States Environmental Protection Agency (EPA), styled Sierra Club, et al. v. Clifford et al., No. 96-0527, (E.D. La. Oct. 1, 1999). Among other claims, plaintiffs alleged that EPA failed to establish Louisiana TMDLs in a timely manner.

In an order dated October 1, 1999, the Court disapproved EPA's proposed 12-year schedule for the establishment of Louisiana TMDLs. Among other things, the court ordered the following:

(1) The defendants, EPA, shall prepare total maximum daily loads for Louisiana waters identified as not meeting water quality standards according to the following schedule:

(a) By December 31, 1999, for all of the waters in the Mermentau and Vermilion/Teche basins.

(b) By December 31, 2001, for all of the waters in the Calcasieu and Ouachita basins.

(c) By December 31, 2003, for all of the waters in the Barataria and Terrebonne basins.

(d) By December 31, 2005, for all of the waters in the Red and Sabine basins.

(e) By December 31, 2006, for all of the waters in the Pontchartrain basins.

(f) By December 31, 2007, for all of the waters in the Mississippi, Atchafalaya, and Pearl basins.

(2) The defendants, EPA, shall add or delete waters to the schedule as new data confirms that the waters are or are not meeting water quality standards. If a water is deleted from the identification of waters that do not meet water quality standards, the defendants need not prepare a total maximum daily load for the water. If an additional water is identified as not meeting water quality standards, the defendants shall prepare a total maximum daily load for the water by the applicable deadline in the schedule if the water is identified at least one year prior to the deadline. If the additional water is identified less than one year before the total maximum load would be due under the schedule, the defendants shall have discretion to prepare the load by the scheduled deadline or to extend the schedule.

EPA Seeks Comments on Six TMDLs

EPA regulations provide for public participation when the Agency establishes TMDLs. By this notice, and pursuant to 40 CFR 130.7(d)(2), EPA is seeking comment on the following six TMDLs for waters located within the Mermentau and Vermilion/Teche basins:

Subsegment | Waterbody name | Pollutant
050102 | Bayou Joe Marcel | Fecal Coliform.
050201 | Bayou Plaquemine-Brule—Headwaters to Bayou Des Cannes | Total Dissolved Solids.
050501 | Bayou Que de Tortue—Headwaters to Mermentau River | Total Dissolved Solids.
060204 | Bayou Courtableau—Origin To West Atchafalaya Borrow Pit Canal | Fecal Coliform.
060204 | Bayou Courtableau—Origin To West Atchafalaya Borrow Pit Canal | Sulfate.
060208 | Bayou Boeuf—Headwaters To Bayou Courtableau | Total Dissolved Solids.

The administrative record file and calculations for these six TMDLs are available for review. EPA requests the public to provide any significant data and information that may impact these TMDLs. EPA will review all data and information submitted during the public comment period and revise the six TMDLs where appropriate. EPA will then forward the TMDLs to the Court and the Louisiana Department of Environmental Quality (LDEQ). LDEQ will incorporate the TMDLs into its current water quality management plan.

Final Notice on Delisting 48 Waterbody/Pollutant Combinations

Through this notice, EPA also is providing final notice of its determination on February 25, 2000, that TMDLs are not needed for forty-six waterbody/pollutant combinations in the Mermentau and Vermilion/Teche river basins and two combinations in the Pearl River Basin.

On October 28, 1999, in response to the court order dated October 1, 1999, EPA disapproved Louisiana's 1998 CWA section 303(d) list. On November 1, 1999, also in response to the October 1 court order, EPA submitted its court-ordered CWA section 303(d) list and administrative record. EPA made this court-ordered 303(d) list available for public comment 64 FR 66635 (November 29, 1999). On February 25, 2000, after review of water quality data and monitoring information and public comments, EPA issued a modified section 303(d) list. Consistent with paragraph three of the October 1 order, quoted above, EPA determined that forty-six waterbody/pollutant combinations in the Mermentau and Vermilion/Teche basins and two combinations in the Pearl River Basin should be removed from the court-ordered 303(d) list because the data and information show that the waterbodies are meeting Louisiana's Water Quality Standards for the pollutants involved. Detailed explanations for these determinations are set out in the Decision Document for the modified section 303(d) list and in Appendix E to that document, which provides as follows:

050101 Bayou Des Cannes—Headwaters to Mermentau

Copper—New data shows it is meeting Water Quality Standards (WQS)

Lead—New data shows it is meeting WQS

050201 Bayou Plaquemine Brule—Headwaters to Bayou Des Cannes

Lead—New data shows it is meeting WQS

Phosphorus—New data shows it is meeting WQS

Turbidity—New data shows it is meeting WQS

050301 Bayou Nezpique—Headwaters to Mermentau

Copper New data shows it is meeting WQS

Lead—New data shows it is meeting WQS

050401 Mermentau River—Origin to Lake Arthur

Phosphorus—Assessment of data shows it is meeting WQS

Copper—New data shows it is meeting WQS

Lead—New data shows it is meeting WQS

Mercury—New data shows it is meeting WQS

Suspended Solids—New data shows it is meeting WQS

050501 Bayou Queue de Tortue—Headwaters to Mermentau

Lead—New data shows it is meeting WQS

050601—Lacassine Bayou—Headwaters to Intracoastal Waterway

Phosphorus—Assessment of data shows it is meeting WQS

Suspended solids—New data shows it is meeting WQS

Turbidity—New data shows it is meeting WQS

Lead—New data shows it is meeting WQS

050703 White Lake

Siltation—Assessment of data and information shows it is meeting WQS

Turbidity—Assessment of data and information shows it is meeting WQS

Lead—New data shows it is meeting WQS

050801 Mermentau River—Catfish Point Control Structure to Gulf of Mexico (Estuarine)

Copper—New data shows it is meeting WQS

060101 Spring Creek—Headwaters to Cocodrie Lake

Siltation—Assessment of data shows it is meeting WQS

Turbidity—New data shows it is meeting WQS

Cadmium—New data shows it is meeting WQS

Copper—New data shows it is meeting WQS

Lead—New data shows it is meeting WQS

Mercury—New data shows it is meeting WQS

060102 Cocodrie Lake

Cadmium—Original basis for listing determined to be inaccurate

Copper—Original basis for listing determined to be inaccurate

Lead—Original basis for listing determined to be inaccurate

060201 Bayou Cocodrie from US Highway 167 to the Boeuf-Cocodrie Diversion Canal

Lead—New data shows it is meeting WQS

060203 Chicot Lake

Copper—New data shows it is meeting WQS

Lead—New data shows it is meeting WQS

060204 Bayou Courtableau—Origin to West Atchafalaya Borrow Pit Canal

Lead—New data shows it is meeting WQS

060205 Bayou Teche—Headwaters at Bayou Courtableau to I-10

Lead—New data shows it is meeting WQS

060401 Bayou Teche—Keystone Locks & Dam to Charenton Canal

Phosphorus—Assessment of data shows it is meeting WQS

060501 Bayou Teche—Charenton Canal to Wax Lake Outlet

Phosphorus—Assessment of data shows it is meeting WQS

060702 Lake Fausse Point and Dauterive Lake

Phosphorus—Assessment of data shows it is meeting WQS

060801 Vermilion River—Headwaters at Bayou Fusilier-Bourbeaux Junction to New Flanders (Ambassador Caffery Bridge)

Phosphorus—Assessment of data shows it is meeting WQS

Cadmium—New data shows it is meeting WQS

Lead—New data shows it is meeting WQS

060802 Vermilion River from New Flanders (Ambassador Caffery Bridge) New Bridge, LA Hwy 3073 to Intracoastal Waterway

Phosphorus—Assessment of data shows it is meeting WQS

Lead—New data shows it is meeting WQS

060902 Bayou Carlin (Delcambre Canal) Lake Peigneur to Bayou Petite Anse (Estuarine)

Copper—New data shows it is meeting WQS

061104 Vermilion Bay

Copper—New data shows it is meeting WQS

090101 Pearl River

Copper—New data shows it is meeting WQS

090202 West Pearl River

Copper—New data shows it is meeting WQS

110507 Bayou Anacoco

Dioxin—Original basis for listing determined to be inaccurate, dioxin included with priority organics list

EPA requested the public to provide any significant data or information warranting revision of EPA's decision to remove these 48 waterbody/pollutant combinations in 65 FR 19763 (April 12, 2000). No comments, data or information were received. Thus, EPA affirms its determination that TMDLs are not needed for the above-listed forty-eight waterbody/pollutant combinations.

Dated: August 22, 2000.
Sam Becker,
Acting Director, Water Quality Protection Division, Region 6.

[FR Doc. 00-22815 Filed 9-5-00; 8:45 am]

BILLING CODE 6560-50-P